DEPARTMENT OF ENERGY

Federal Energy Regulatory Commission

Combined Notice of Filings

Take notice that the Commission has received the following Natural Gas Pipeline Rate and Refund Report filings:

Docket Numbers: RP11-2124-000.

Applicants: CenterPoint Energy Gas Transmission Company, LLC.

Description: CenterPoint Energy Gas Transmission Company, LLC submits tariff filing per 154.204: CEGT LLC EFT Enhancements to be effective 7/1/2011.

Filed Date: 05/24/2011.

Accession Number: 20110524-5121.

Comment Date: 5 p.m. Eastern Time on Monday, June 06, 2011.

Docket Numbers: RP11-2125-000.

Applicants: Big Sandy Pipeline, LLC.

Description: Big Sandy Pipeline, LLC submits tariff filing per 154.204: Big Sandy Contract Assignment Filing to be effective 6/1/2011.

Filed Date: 05/25/2011.

Accession Number: 20110525-5079.

Comment Date: 5 p.m. Eastern Time on Monday, June 06, 2011.

Docket Numbers: RP11-2126-000.

Applicants: Gulf South Pipeline Company, LP.

Description: Gulf South Pipeline Company, LP submits tariff filing per 154.204: Enbridge 34685 to BP 38842 Capacity Release Negotiated Rate Agreement Filing to be effective 6/1/2011.

Filed Date: 05/26/2011.

Accession Number: 20110526-5020.

Comment Date: 5 p.m. Eastern Time on Tuesday, June 07, 2011.

Docket Numbers: RP11-2127-000.

Applicants: Sabine Pass Liquefaction, LLC.

Description: Sabine Pass Liquefaction, LLC submits Petition for Declaratory Order, or in the Alternative, Request for Waivers and Expedited Consideration.

Filed Date: 05/25/2011.

Accession Number: 20110525-5113.

Comment Date: 5 p.m. Eastern Time on Monday, June 06, 2011.

Docket Numbers: RP11-2128-000.

Applicants: Equitrans, L.P.

Description: Equitrans, L.P. submits tariff filing per 154.203: Equitrans' Tariff Compliance Filing Docket No. CP11-43-000 to be effective 6/25/2011.

Filed Date: 05/26/2011.

Accession Number: 20110526-5116.

Comment Date: 5 p.m. Eastern Time on Tuesday, June 07, 2011.

Docket Numbers: RP11-2129-000.

Applicants: ETC Tiger Pipeline, LLC.

Description: ETC Tiger Pipeline, LLC submits tariff filing per 154.403(d)(2): ETC Tiger 2011_05_26 Out of Cycle Fuel Filing to be effective 7/1/2011.

Filed Date: 05/26/2011.

Accession Number: 20110526-5120.

Comment Date: 5 p.m. Eastern Time on Tuesday, June 07, 2011.

Docket Numbers: RP11-2130-000.

Applicants: Gulf Crossing Pipeline Company LLC.

Description: Gulf Crossing Pipeline Company LLC submits tariff filing per 154.204: Antero2 to Tenaska203 Capacity Release Negotiated Rate Agreement Filing to be effective 6/1/2011.

Filed Date: 05/26/2011.

Accession Number: 20110526-5132.

Comment Date: 5 p.m. Eastern Time on Tuesday, June 07, 2011.

Docket Numbers: RP11-2131-000.

Applicants: Tennessee Gas Pipeline Company.

Description: Tennessee Gas Pipeline Company submits tariff filing per 154.203: Compliance Motion Rate Case Sheets to be effective 6/1/2011.

Filed Date: 05/26/2011.

Accession Number: 20110526-5172.

Comment Date: 5 p.m. Eastern Time on Tuesday, June 07, 2011.

Docket Numbers: RP11-2132-000.

Applicants: Gas Transmission Northwest Corporation.

Description: Gas Transmission Northwest Corporation submits tariff filing per 154.204: GTN Housekeeping to be effective 6/27/2011.

Filed Date: 05/26/2011.

Accession Number: 20110526-5192.

Comment Date: 5 p.m. Eastern Time on Tuesday, June 07, 2011.

Docket Numbers: RP11-2133-000.

Applicants: Big Sandy Pipeline, LLC.

Description: Big Sandy Pipeline, LLC submits tariff filing per 154.204: Negotiated Rate Service Agreement Filing to be effective 6/1/2011.

Filed Date: 05/27/2011.

Accession Number: 20110527-5006.

Comment Date: 5 p.m. Eastern Time on Wednesday, June 08, 2011.

Docket Numbers: RP11-2134-000.

Applicants: Columbia Gulf Transmission Company.

Description: Columbia Gulf Transmission Company submits a Request for Limited Waiver of Tariff Provisions.

Filed Date: 05/26/2011.

Accession Number: 20110526-5199.

Comment Date: 5 p.m. Eastern Time on Thursday, June 02, 2011.

Docket Numbers: RP11-2135-000.

Applicants: Southern Star Central Gas Pipeline, Inc.

Description: Southern Star Central Gas Pipeline, Inc. submits tariff filing per 154.204: Scheduling Priorities Filing—2011 to be effective 10/1/2011.

Filed Date: 05/27/2011.

Accession Number: 20110527-5036.

Comment Date: 5 p.m. Eastern Time on Wednesday, June 08, 2011.

Docket Numbers: RP11-2136-000.

Applicants: Dominion Cove Point LNG, LP.

Description: Dominion Cove Point LNG, LP submits tariff filing per 154.204: DCP-LNG Import Modifications to be effective 6/26/2011.

Filed Date: 05/27/2011.

Accession Number: 20110527-5046.

Comment Date: 5 p.m. Eastern Time on Wednesday, June 08, 2011.

Docket Numbers: RP11-2137-000.

Applicants: Dominion Cove Point LNG, LP.

Description: Dominion Cove Point LNG, LP submits tariff filing per 154.312: DCP-2011 Section 4 General Rate Case to be effective 7/1/2011.

Filed Date: 05/27/2011.

Accession Number: 20110527-5086.

Comment Date: 5 p.m. Eastern Time on Wednesday, June 08, 2011.

Docket Numbers: RP11-2138-000.

Applicants: ETC Tiger Pipeline, LLC.

Description: ETC Tiger Pipeline, LLC submits tariff filing per 154.203: ETC Tiger Phase I Expansion—Compliance Filing to be effective 8/1/2011.

Filed Date: 05/27/2011.

Accession Number: 20110527-5114.

Comment Date: 5 p.m. Eastern Time on Wednesday, June 08, 2011.

Docket Numbers: RP11-2139-000.

Applicants: Transcontinental Gas Pipe Line Company.

Description: Transcontinental Gas Pipe Line Company, LLC submits tariff filing per 154.204: Clean Up of Tariff References to be effective 7/1/2011.

Filed Date: 05/27/2011.

Accession Number: 20110527-5142.

Comment Date: 5 p.m. Eastern Time on Wednesday, June 08, 2011.

Docket Numbers: RP11-2140-000.

Applicants: Gulf South Pipeline Company, LP.

Description: Gulf South Pipeline Company, LP submits tariff filing per 154.204: QEP 36601-6 Amendment to Negotiated Rate Agreement Filing to be effective 6/1/2011.

Filed Date: 05/27/2011.

Accession Number: 20110527-5147.

Comment Date: 5 p.m. Eastern Time on Wednesday, June 08, 2011.

Docket Numbers: RP11-2141-000.

Applicants: Kinder Morgan Louisiana Pipeline LLC.

Description: Kinder Morgan Louisiana Pipeline LLC submits tariff filing per 154.403: Periodic Rate Adjustment Filing to be effective 7/1/2011.

Filed Date: 05/27/2011.

Accession Number: 20110527-5193.

Comment Date: 5 p.m. Eastern Time on Wednesday, June 08, 2011.

Docket Numbers: RP11-2142-000.

Applicants: Rockies Express Pipeline LLC.

Description: Form of Rockies Express Pipeline LLC Penalty Charge Reconciliation Filing.

Filed Date: 05/27/2011.

Accession Number: 20110527-5203.

Comment Date: 5 p.m. Eastern Time on Wednesday, June 08, 2011.

Docket Numbers: RP11-2143-000.

Applicants: Rockies Express Pipeline LLC.

Description: Rockies Express Pipeline LLC submits tariff filing per 154.204: Negotiated Rate 2011-05-27 BP and Johnstown Regional to be effective 6/1/2011.

Filed Date: 05/27/2011.

Accession Number: 20110527-5206.

Comment Date: 5 p.m. Eastern Time on Wednesday, June 08, 2011.

Docket Numbers: RP11-2144-000.

Applicants: Freebird Gas Storage, L.L.C.

Description: Freebird Gas Storage, L.L.C. submits tariff filing per 154.204: Freebird Gas Storage, LLC, Change to FERC Gas Tariff to be effective 5/25/2011.

Filed Date: 05/27/2011.

Accession Number: 20110527-5236.

Comment Date: 5 p.m. Eastern Time on Wednesday, June 08, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: May 31, 2011.
Nathaniel J. Davis, Sr.,
Deputy Secretary.

[FR Doc. 2011-14229 Filed 6-8-11; 8:45 am]

BILLING CODE 6717-01-P